DEPARTMENT OF THE INTERIOR

Geological Survey

[GX.12.CD00.B9510.00]

Agency Information Collection: Comment Request

AGENCY: United States Geological Survey (USGS), Interior.

ACTION: Notice of an extension of a currently approved information collection, 1028-0095.

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This collection is scheduled to expire on January 31, 2013.

DATES: You must submit comment on or before October 29, 2012.

ADDRESSES: You may submit comments on this information collection to the Information Collection Clearance Officer, U.S. Geological Survey, 12201 Sunrise Valley Drive MS 807, Reston, VA 20192 (mail); 703-648-7199 (Fax); or smbaloch@usgs.gov (email). Please reference Information Collection 1028-0095 in the subject line.

FOR FURTHER INFORMATION CONTACT: John E. Schefter, Chief Office of External Research, U.S. Geological Survey, 12201 Sunrise Valley Drive, MS 424, Reston, Virginia 20192 (mail) at (703) 648-6800 (Phone); or schefter@usgs.gov (email).

SUPPLEMENTARY INFORMATION: Title: National Institutes for Water Resources (NIWR) USGS Competitive Grant Program.

OMB Control Number: 1028-0095.

Abstract: The NIWR-USGS National Competitive Grant Program issues an annual call for proposals to support research on water problems and issues of a regional or interstate nature beyond those of concern only to a single state and which relate to specific program priorities identified jointly by the USGS and the state water resources research institutes authorized by the Water Resources Research Act of 1984, as amended (42 U.S.C. 10301 et seq.). The program is conducted in conjunction with the State Water Resources Research Institutes. The NIWR cooperates with the USGS in establishing total programmatic direction, reporting on the activities of the Institutes, coordinating and facilitating regional research and information and technology transfer, and in operating the NIWR-USGS Student Internship Program. Any investigator at an accredited institution of higher learning in the United States is eligible to apply for a grant through a water research institute or center established under the provisions of the Act. Proposals involving substantial collaboration between the USGS and university scientists are encouraged. Proposals may be for projects of 1 to 3 years in duration and may request up to $250,000 in federal funds. Successful applicants must match each dollar of the federal grant with one dollar from nonfederal sources. An annual progress and final technical report for all projects is required at the end of the project period. This program is authorized by the Water Resources Research Act of 1984, as amended (42 U.S.C. 10303(g)).

No questions of a “sensitive” nature are asked. We intend to release the project abstracts and primary investigators for awarded/funded projects only.

Frequency of Collection: Annually.

Affected Public: Research investigators at accredited institutions of higher education.

Respondent's Obligation: Voluntary (necessary to receive benefits).

Estimated Number and Description of Respondents: We expect to receive approximately 65 applications and award 7 grants per year.

Estimated Annual Reporting and Recordkeeping “Hour” Burden: We estimate the public reporting burden to be 72 hours per response. This includes 60 hours per applicant to prepare and submit the application; and 12 hours (total) per grantee to complete the interim and final technical reports.

Annual Burden Hours: 3,984.

Estimated Annual Reporting and Recordkeeping “Non-Hour Cost”: We have not identified any “non-hour cost” burdens associated with this collection of information.

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: August 22, 2012.
John E. Schefter,
Water Resources Research Act Program Coordinator.

[FR Doc. 2012-21144 Filed 8-27-12; 8:45 am]

BILLING CODE 4311-AM-P